DEPARTMENT OF HEALTH AND HUMAN SERVICES

National Institutes of Health

National Institute of Neurological Disorders and Stroke; Notice of Closed Meetings

Pursuant to section 1009 of the Federal Advisory Committee Act, as amended, notice is hereby given of meetings of the Board of Scientific Counselors, National Institute of Neurological Disorders and Stroke.

The meetings will be closed to the public as indicated below in accordance with the provisions set forth in section 552b(c)(6), title 5 U.S.C., as amended for the review, discussion, and evaluation of individual intramural programs and projects conducted by the National Institute of Neurological Disorders and Stroke, including consideration of personnel qualifications and performance, and the competence of individual investigators, the disclosure of which would constitute a clearly unwarranted invasion of personal privacy.

Name of Committee: Board of Scientific Counselors, National Institute of Neurological Disorders and Stroke.

Date: April 30, 2024.

Time: 2:00 p.m. to 6:00 p.m.

Agenda: To review and evaluate personnel qualifications and performance, and competence of individual investigators. The agenda will include an overview of the National Center for Complementary and Integrative Health (NCCIH) program.

Place: Porter Neuroscience Research Center, Building 35A, 35 Convent Drive, Bethesda, MD 20892 (Virtual Meeting).

Date: May 6-7, 2024.

Time: May 6, 2024, 9:00 a.m. to 8:00 p.m. May 7, 2024, 9:30 a.m. to 1:00 p.m.

Agenda: To review and evaluate personnel qualifications and performance, and competence of individual investigators. The agenda will include review of an investigator in the National Center for Complementary and Integrative Health (NCCIH) program.

Place: Porter Neuroscience Research Center, Building 35A, 35 Convent Drive, Bethesda, MD 20892 (Virtual Meeting).

Contact Person: Jeffrey S. Diamond, Ph.D., Scientific Director, c/o Caren Collins, National Institute of Neurological Disorders and Stroke, NIH, Building 35, Room GF-149, Bethesda, MD 20892, 301-435-1896, diamondj@ninds.nih.gov; collinsca@ninds.nih.gov.

Name of Committee: Board of Scientific Counselors, National Institute of Neurological Disorders and Stroke.

Date: June 14, 2024.

Time: 12:30 p.m. to 4:30 p.m.

Agenda: To review and evaluate personnel qualifications and performance, and competence of individual investigators.

Place: Porter Neuroscience Research Center, Building 35A, 35 Convent Drive, Bethesda, MD 20892 (Virtual Meeting).

Date: June 24-25, 2024.

Time: June 24, 2024, 8:30 a.m. to 9:00 p.m. June 25, 2024, 10:00 a.m. to 1:00 p.m.

Agenda: To review and evaluate personnel qualifications and performance, and competence of individual investigators.

Place: Neuroscience Center, 6001 Executive Boulevard Bethesda, MD 20892 (Hybrid Meeting).

Contact Person: Jeffrey S. Diamond, Ph.D., Scientific Director, c/o Caren Collins, National Institute of Neurological Disorders and Stroke, NIH, Building 35, Room GF-149, Bethesda, MD 20892, 301-435-1896, diamondj@ninds.nih.gov; collinsca@ninds.nih.gov.

(Catalogue of Federal Domestic Assistance Program Nos. 93.853, Clinical Research Related to Neurological Disorders; 93.854, Biological Basis Research in the Neurosciences, National Institutes of Health, HHS.)

Dated: March 26, 2024
Lauren A. Fleck,
Program Analyst, Office of Federal Advisory Committee Policy.

[FR Doc. 2024-06698 Filed 3-28-24; 8:45 am]

BILLING CODE 4140-01-P